DEPARTMENT OF AGRICULTURE

Forest Service

Modification of Hoosier National Forest Boundary

AGENCY: Forest Service, USDA.

ACTION: Notice of Modification of Hoosier National Forest Boundary.

SUMMARY: Pursuant to authority vested in me by section 11 of the Act of March 1, 1911 (36 Stat. 961), as amended, and section 17(a) of the National Forest Management Act of 1976 (90 Stat. 2961), the exterior boundary of the Hoosier National Forest is modified as described below, and all lands within these National Forest boundaries, as adjusted, that have been or hereafter are acquired by the United States for National Forest purposes, are hereby designated for administration as part of the Hoosier National Forest. This change in the exterior boundary of the Hoosier National Forest would allow for the acquisition and management of unique limestone karst features located in the Lost River karst system. The land area to be retracted from the Hoosier National Forest is near French Lick, in an area with no National Forest System lands and where future acquisition is not contemplated.

DATES: This notice is effective August 4, 2008.

FOR FURTHER INFORMATION CONTACT: Louisa Herrera, Lands Staff, 202-205-1255; 1400 Independence Ave., SW., Mailstop 1103, Washington, DC 20250-1124.

Individuals who use telecommunication devices for the deaf (TDD) may call the Federal Information Relay Service (FIRS) at 1-800-877-8339 between 8 a.m. and 8 p.m., Eastern Standard Time, Monday through Friday.

SUPPLEMENTARY INFORMATION: The changes to the Hoosier National Forest boundary are:

Boundary Extension

The boundary of the Hoosier National Forest is modified to include the following described lands:

2nd Principal Meridian

Orange County, Indiana

T. 3 N., R. 1 W.,

Sec. 19;

Secs. 27 to 30, inclusive;

Sec. 31, N½, SE¼, S½SW¼;

Secs. 32 to 34, inclusive;

Sec. 35, W½.

T. 2 N., R. 1 W.,

Sec. 2, W½;

Secs. 3 to 10, inclusive;

Sec. 11, W½;

Secs. 14 to 18, inclusive.

T. 2 N., R. 2 W.,

Sec. 1, E½, E½SW¼, E½NW¼;

Sec. 12, E½, E½SW¼, SW¼SW¼ , E½NW¼;

Sec. 13.

The areas encompassed by this boundary modification in Orange County, Indiana, including both public and nonpublic lands, contain 16,723 acres.

Boundary Retraction

The boundary of the Hoosier National Forest is modified to retract the following described lands:

2nd Principal Meridian

Dubois County, Indiana

T. 1 N., R. 3 W.,

Secs. 16 to 26, inclusive, and secs. 35 and 36, inclusive.

T. 1 S., R. 3 W.,

Secs. 1 and 2, inclusive.

The areas encompassed by this boundary modification in Dubois County, Indiana, are nonpublic lands, containing 9,600 acres.

Orange County, Indiana

T. 1 N., R. 2 W.,

Secs. 19 to 21, inclusive;

Sec. 28, N½, N½SE¼, SW¼SE¼ and SW¼;

Secs. 29 to 33, inclusive.

T. 1 S., R. 2 W.,

Secs. 5 and 6, inclusive.

The areas encompassed by this boundary modification in Orange County, Indiana, are nonpublic lands, containing 7,002 acres.

Dated: July 28, 2008.
Mark Rey,
Under Secretary of Agriculture.

[FR Doc. E8-17740 Filed 8-1-08; 8:45 am]

BILLING CODE 3410-11-P